DEPARTMENT OF COMMERCE

National Oceanic and Atmospheric Administration

RIN 0648-XF438

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an exempted fishing permit application contains all of the required information and warrants further consideration. This exempted fishing permit would allow commercial fishing vessels in collaboration with the Massachusetts Division of Marine Fisheries to research the use of raised-footrope trawl gear to target whiting (Northern silver hake) within an area of the Gulf of Maine whiting exempted fishery for two weeks before the start of the current open season.

Regulations under the Magnuson-Stevens Fishery Conservation and Management Act require publication of this notification to provide interested parties the opportunity to comment on applications for a proposed exempted fishing permit.

DATES: Comments must be received on or before June 27, 2017.

ADDRESSES: You may submit written comments by any of the following methods:

• Email: NMFS.GAR.EFP@noaa.gov. Include in the subject line “Comments on 2017 MADMF Whiting Exempted Fishery Study EFP.”

• Mail: John K. Bullard, Regional Administrator, NMFS, Greater Atlantic Regional Office, 55 Great Republic Drive, Gloucester, MA 01930. Mark the outside of the envelope “2017 MADMF Whiting Exempted Fishery Study EFP.”

FOR FURTHER INFORMATION CONTACT: Reid Lichwell, Fishery Management Specialist, (978) 282-9112.

SUPPLEMENTARY INFORMATION: The Massachusetts Division of Marine Fisheries (MADMF) submitted an application for an Exempted Fishing Permit (EFP) to assess the use of small-mesh raised-footrope trawl gear in a Gulf of Maine (GOM) exempted fishing area two weeks before the area opens for whiting fishing. Research would occur within a subarea of Small Mesh Area 1 (SMA1). This EFP would allow up to eight participating commercial fishing vessels exemptions from the minimum mesh size gear requirements found at 50 CFR 648.80(a)(3); and from the possession limits and minimum size requirements specified in 50 CFR part 648, subparts B and D through O.

MADMF asserts that the GOM whiting exempted fishery is underutilized and analysis of observer data have indicated that whiting stocks may be more prevalent and more effectively targeted within the exemption areas before the current July 15 opening for SMA1. This study would provide data on catch rates of whiting and bycatch of regulated Northeast (NE) multispecies to evaluate if an earlier opening of the GOM whiting exempted fishery in SMA1 is warranted. This is the second year of study to test raised-footrope trawl gear targeting whiting before the start of the SMA1 whiting exempted fishery.

This EFP would allow eight vessels to fish within the western portion of SMA1 during July 1-14. Participating vessels would each be limited to six fishing days. The length of each trip would be at the discretion of the vessel operators, consistent with normal commercial fishing practices. Each vessel would conduct 3 to 4 tows per day, with each tow lasting approximately 90 minutes.

These vessels would operate under the normal restrictions for operating in the whiting exemption areas during their open seasons. For instance, participating vessels would use a raised-footrope trawl with diamond mesh nets that have either a codend mesh size of greater than 2.5 inches but less than 3 inches, or a codend mesh size of 3 inches or greater, consistent with § 648.80(a)(9)(ii). Per trip possession limits that would be allowed for silver, northern red, and offshore hake are consistent with those outlined in § 648.86(d). Additional species permitted for retention and sale would include butterfish, spiny dogfish, Atlantic herring, Atlantic mackerel, scup, and squid. Regulated Northeast multispecies (cod, haddock, etc.) cannot be retained by the participating vessels either under this EFP or during the normal small-mesh exempted fisheries. Participating vessels would be exempt from the possession limits and minimum size requirements for sampling purposes only, in order to facilitate collecting weight and length measurements of catch. All catch not retained for sale would be returned to the sea as soon as possible after biological sampling is conducted.

MADMF has analyzed catch data collected during last year's sampling trips, which utilized the same gear, time period (July 1-14), geographic area, and methods that are proposed for this year's study. Last year's sampling was conducted by five vessels within SMA1, totaling 29 trip (82 tows). Data collected from these trips shows approximately 10 percent bycatch of regulated groundfish species in SMA1. The majority of this catch was haddock. It is anticipated that the catch for the proposed 2017 study would have similar bycatch and catch composition as last year's study.

All trips will be accompanied by either MADMF trained staff or contracted observers to collect data on catch composition, length and weight measurements, and operational data (location, weather, time, duration of tow, trawl speed, etc.). All gear will be inspected and measured prior to its use to verify that it meets the mesh sizes requirements consistent with existing applicable small-mesh exempted gear requirements.

If approved, the applicant may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: June 7, 2017.
Margo B. Schulze-Haugen,
Acting Deputy Director, Office of Sustainable Fisheries, National Marine Fisheries Service.

[FR Doc. 2017-12103 Filed 6-9-17; 8:45 am]

BILLING CODE 3510-22-P